DEPARTMENT OF ENERGY

Federal Energy Regulatory Commission

Combined Notice of Filings

Take notice that the Commission has received the following Natural Gas Pipeline Rate and Refund Report filings:

Docket Numbers: RP20-423-000.

Applicants: Transcontinental Gas Pipe Line Company, LLC.

Description: § 4(d) Rate Filing: DPEs—Gateway Expansion to be effective 2/9/2020.

Filed Date: 1/9/20.

Accession Number: 20200109-5061.

Comments Due: 5 p.m. ET 1/21/20.

Docket Numbers: RP20-424-000.

Applicants: East Tennessee Natural Gas, LLC.

Description: § 4(d) Rate Filing: ETNG Jan2020 Negotiated Rates Cleanup to be effective 2/9/2020.

Filed Date: 1/9/20.

Accession Number: 20200109-5072.

Comments Due: 5 p.m. ET 1/21/20.

Docket Numbers: RP20-425-000.

Applicants: Dominion Energy Carolina Gas Transmission LLC.

Description: Compliance filing DECG—2019 Interruptible Revenue Sharing Report.

Filed Date: 1/9/20.

Accession Number: 20200109-5123.

Comments Due: 5 p.m. ET 1/21/20.

Docket Numbers: RP20-426-000.

Applicants: Equitrans, L.P.

Description: § 4(d) Rate Filing: Negotiated Rate Agreement—EQT Energy OVC to be effective 1/9/2020.

Filed Date: 1/9/20.

Accession Number: 20200109-5219.

Comments Due: 5 p.m. ET 1/21/20.

Docket Numbers: RP20-427-000.

Applicants: Guardian Pipeline, L.L.C.

Description: § 4(d) Rate Filing: Update to Guardian URL and Title Page to be effective 2/10/2020.

Filed Date: 1/9/20.

Accession Number: 20200109-5220.

Comments Due: 5 p.m. ET 1/21/20.

Docket Numbers: RP20-428-000.

Applicants: Guardian Pipeline, L.L.C.

Description: § 4(d) Rate Filing: Update Contact Information on Title Sheet—2019 to be effective 2/10/2020.

Filed Date: 1/9/20.

Accession Number: 20200109-5221.

Comments Due: 5 p.m. ET 1/21/20.

Docket Numbers: RP20-429-000.

Applicants: Midwestern Gas Transmission Company.

Description: § 4(d) Rate Filing: Update to Midwestern URL and Title Page to be effective 2/10/2020.

Filed Date: 1/9/20.

Accession Number: 20200109-5222.

Comments Due: 5 p.m. ET 1/21/20.

Docket Numbers: RP20-430-000.

Applicants: OkTex Pipeline Company, L.L.C.

Description: § 4(d) Rate Filing: Update to OkTex URL and Title Page to be effective 2/10/2020.

Filed Date: 1/9/20.

Accession Number: 20200109-5223.

Comments Due: 5 p.m. ET 1/21/20.

Docket Numbers: RP20-431-000.

Applicants: Viking Gas Transmission Company.

Description: § 4(d) Rate Filing: Update to Viking URL 2019 to be effective 2/10/2020.

Filed Date: 1/9/20.

Accession Number: 20200109-5224.

Comments Due: 5 p.m. ET 1/21/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 13, 2020.
Nathaniel J. Davis, Sr.,
Deputy Secretary.

[FR Doc. 2020-00793 Filed 1-17-20; 8:45 am]

BILLING CODE 6717-01-P